DEPARTMENT OF THE INTERIOR

Fish and Wildlife Service

Rachel Carson National Wildlife Refuge

AGENCY: Fish and Wildlife Service, Interior.

ACTION: Notice of availability: draft comprehensive conservation plan and environmental assessment.

SUMMARY: We, the U.S. Fish and Wildlife Service (Service), announce the availability of the Rachel Carson National Wildlife Refuge (NWR) Draft Comprehensive Conservation Plan (CCP) and Environmental Assessment (EA). It describes how we intend to manage Rachel Carson NWR during the next 15 years. We prepared this Draft CCP/EA in conformance with the National Environmental Policy Act (NEPA) and the National Wildlife Refuge System Administration Act, as amended.

DATES: The Draft CCP/EA is available for public review and comment. We must receive your comments on or before September 18, 2006. During the 30-day comment period, we plan to host public meetings in the local area. We will post the details of each meeting at least 2 weeks in advance to our project mailing list in local papers, at the refuge, and at our Web site, http://www.fws.gov/northeast/rachelcarsonrefuge/.

ADDRESSES: You may obtain copies of the draft CCP/EA on compact disk or in print by writing to Carl Melberg, U.S. Fish and Wildlife Service, Northeast Regional Office, 300 Westgate Center Drive, Hadley, Massachusetts 01035-9589, or e-mailing northeastplanning@fws.gov. You may also view the draft on the Web at http://library.fws.gov/ccps.htm.

FOR FURTHER INFORMATION CONTACT: Carl Melberg, 413-253-8521.

SUPPLEMENTARY INFORMATION: The National Wildlife Refuge System Administration Act of 1966, as amended by the National Wildlife Refuge System Improvement Act of 1997 (16 U.S.C. 668dd et seq.), requires the Service to develop a CCP for each refuge. The purpose of developing a CCP is to provide refuge managers with a 15-year strategy for achieving refuge purposes and contributing to the mission of the National Wildlife Refuge System (NWRS), in conformance with the sound principles of fish and wildlife science, natural resources conservation, legal mandates, and Service policies. In addition to outlining broad management direction on conserving wildlife and habitats, CCPs identify wildlife-dependent recreational opportunities available to the public, including opportunities for hunting, fishing, wildlife observation and photography, and environmental interpretation and education. The Service will review and update each CCP at least once every 15 years, in accordance with the National Wildlife Refuge System Improvement Act of 1997 and the National Environmental Policy Act of 1969 (42 U.S.C. 4321-4370d) (NEPA).

This Draft CCP/EA identifies goals, long-range objectives, and strategies for achieving the purposes for which this refuge was established. The document poses three management alternatives:

Alternative A (Current Management): This alternative is the no action alternative required by NEPA. Alternative A defines our current management activities, including those planned, funded, or under way, and serves as the baseline against which to compare the other two action alternatives. It would maintain our present levels of approved refuge staffing and the biological and visitor programs now in place. Three new facilities are incorporated in this alternative to support current and approved management, staffing, and administrative obligations. The refuge would continue to acquire the 3,833 acres remaining within its current approved boundary.

Alternative B (the Service-preferred alternative): This alternative represents the combination of actions that we believe will most effectively achieve the purposes and goals of the refuge and address the major issues. It builds on the programs identified under current management. Funding and staffing would need to increase to adequately support the program expansions we propose. We propose to expand the refuge by 5,558 acres beyond its current approved boundary of 9,126 acres. We would add acreage to Brave Boat Harbor, Upper Wells, Spurwink, Biddeford, Mousam River, Little River, and Moody Divisions, and we would establish a new York River Division, encompassing the largest undeveloped salt marsh south of Portland. Alternative B also includes removing 101 parcels totaling 164 acres from the current approved boundary that are no longer suitable for Service acquisition. The refuge would continue to acquire the 3,833 acres remaining within its current approved boundary. This proposal increases the protection and management of migratory wildlife, endangered and threatened species, and other species of concern by protecting additional aquatic and upland habitat. It includes expanded management and additional public use opportunities for wildlife-dependent recreation such as hunting and fishing, as well as wildlife observation, photography, and interpretation. A new administrative complex, including office space, maintenance facilities, and visitor contact station, will be built. This alternative includes combining the Moody, Lower Wells, Upper Wells, and Mousam River Divisions into one, the Wells Bay Division. This alternative will also increase the number and quality of wildlife-dependent recreational opportunities, and allow us to use Rachel Carson NWR's proximity to Portland and urban communities to better promote NWRS principles and improve public support for national wildlife refuges.

Alternative C is the same as alternative B, however, it proposes to expand the refuge by 11,397 acres beyond the current approved boundary. That 11,397-acre expansion includes the 5,558 acres in Alternative B. It would add acreage to Brave Boat Harbor, Upper Wells, Spurwink, Biddeford, and Moody Divisions, and would establish a new York River Division, encompassing the largest undeveloped salt marsh south of Portland. This alternative will also increase the number and quality of wildlife-dependent recreational opportunities, especially hunting and fishing, further protect threatened and endangered species, and control invasive species.

After the 30-day review and comment period ends, we will analyze, address, and consider all comments received and prepare a final CCP. Availability of the final CCP will be published in the Federal Register. The Director must approve the proposed refuge boundary expansion before the Regional Director considers approving the expansion.

All comments, including names and addresses, become part of the official public record. Requests for the public record of this plan will be handled in accordance with the Freedom of Information Act, the Council on Environmental Quality's NEPA regulations, and other Service and Departmental policies and procedures.

Dated: August 11, 2006.
Marvin E. Moriarty,
Regional Director, U.S. Fish and Wildlife Service, Hadley, MA 01035-9589.

[FR Doc. E6-13558 Filed 8-16-06; 8:45 am]

BILLING CODE 4310-55-P